INTERNATIONAL TRADE COMMISSION

Miscellaneous Tariff Bill Petition System; Proposed Information Collection; Comment Request; Miscellaneous Tariff Bill Petition Submission and Comment Forms

AGENCY: United States International Trade Commission.

ACTION: In accordance with the provisions of the Paperwork Reduction Act of 1995, the U.S. International Trade Commission (Commission) hereby gives notice that it plans to submit a request for approval of two forms to the Office of Management and Budget (OMB) for review and requests public comment on its draft proposed collection.

DATES: To ensure consideration, written comments must be submitted on or before June 3, 2019.

ADDRESSES: All Commission offices, including the Commission's hearing rooms, are located in the United States International Trade Commission Building, 500 E Street SW, Washington, DC. All written comments should be addressed to the Secretary, United States International Trade Commission, 500 E Street SW, Washington, DC 20436 and filed electronically on the Commission's electronic docket (EDIS) at https://edis.usitc.gov.

Written Comments: You may submit comments, identified by docket number MISC-034. All submissions should be addressed to the Secretary and must conform to the provisions of section 201.8 of the Commission's Rules of Practice and Procedure (19 CFR 201.8). Section 201.8 and the Commission's Handbook on Filing Procedures require that interested parties file documents electronically on or before the filing deadline. Persons with questions regarding electronic filing should contact the Office of the Secretary, Docket Services Division (202-205-1802).

Additional Information: Copies of the forms, supporting documents, and previously submitted comments may be downloaded from the Commission website at https://www.usitc.gov/mtbpscomments. For any questions about these documents, email mtbinfo@usitc.gov or call Jennifer Rohrbach, USITC MTB Program Manager (202-205-2088). Hearing-impaired individuals may obtain information on this matter by contacting the Commission's TDD terminal at 202-205-1810. General information concerning the Commission may also be obtained by accessing its website (https://www.usitc.gov).

Purpose of Information Collection: The information requested by these forms is for use by the Commission in connection with its evaluation of miscellaneous tariff bill petitions submitted under the American Manufacturing Competitiveness Act of 2016 (the Act) (Pub. L. 114-159, approved May 20, 2016). Section 3 of the Act establishes a process for the submission and consideration of petitions for, and public comments on, duty suspensions and reductions for imported goods. The Act requires the Commission to conduct two petition submission cycles. One such cycle, now completed, was conducted beginning in October 2016. The cycle that is the subject of this notice begins not later than October 15, 2019.

Summary of Proposal:

(1) Number of forms submitted: 2.

(2) Title of forms: Miscellaneous Tariff Bill Petition Submission Form and Miscellaneous Tariff Bill Petition Comment Form;

(3) Type of request: Extension of approval for a collection of information.

(4) Frequency of use: Once.

(5) Description of affected industry: Domestic firms.

(6) Estimated number of petitioners and commenters: up to 5,000 petitions; 3,000 comments.

(7) Estimated total number of hours to complete the forms: 5 hours for compiling information and submitting petitions and 0.5 hours to draft and submit comments.

(8) Information obtained from the forms that qualifies as confidential business information will be so treated by the Commission and not disclosed in a manner that would reveal the individual operations of a firm.

SUPPLEMENTARY INFORMATION:

I. Abstract

Tariff categories and duty rates on imported goods are established by Congress and set out in the Harmonized Tariff Schedule of the United States (HTS). Temporary duty suspensions and reductions are set forth in chapter 99, subchapter II of the HTS.

The Act referenced above requires the Commission to establish a process to receive petitions for temporary duty suspensions and reductions, and specifies the contents of such petitions. The Act also provides that these petitions must be made available on the Commission's website for public review and comment. The Act specifies the information that the Commission must include in its preliminary and final reports to the House Committee on Ways and Means and the Senate Committee on Finance (Committees), including certain determinations the Commission must make concerning the petitions filed. While the Act only requires that the Commission provide one public comment period, the Commission may provide additional opportunity for public comment if deemed appropriate.

The Act specifies the schedule for conducting each of the two cycles for collection of petitions. The first cycle commenced on October 14, 2016, and the Commission delivered its final report to the Committees on the submitted petitions on August 8, 2017. This notice concerns the second petition submission cycle, which must start not later than October 15, 2019.

II. Method of Collection

Each interested party will be required to establish a user web account on the Commission's designated website, the Miscellaneous Tariff Bill Petition System (MTBPS), to submit a petition requesting the extension or establishment of a temporary duty suspension or reduction provision in the HTS. Similarly, each interested party will be required to establish a user web account on MTBPS to submit a comment on received petitions.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft forms and other supplementary documents may be downloaded from the USITC website at https://www.usitc.gov/mtbpscomments.

Comments submitted in response to this notice will be summarized and/or included in the request for OMB approval of this information collection; they will also become a matter of public record.

By order of the Commission.
Issued: April 1, 2019.
Lisa Barton,
Secretary to the Commission.

[FR Doc. 2019-06600 Filed 4-3-19; 8:45 am]

BILLING CODE 7020-02-P